DEPARTMENT OF HOMELAND SECURITY

Bureau of Customs and Border Protection

Notice of Cancellation of Customs Broker National Permit

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker national permits are canceled without prejudice.

Name | Permit No. | Issuing port
Capin Vyborny Inc | 99-00570 | Headquarters.
Allstates Customs Brokerage Inc | 99-00180 | Headquarters.
Su Mei-Hsia Sun | 99-00282 | Headquarters.
UPS Customhouse Brokerage Inc | 99-00068 | Headquarters.
Freight Brokers International Inc | 99-00017 | Headquarters.
Ameri-Can Customhouse Brokers Inc | 99-00196 | Headquarters.
ADESA Importation Services Inc | 99-00428 | Headquarters.

Dated: February 13, 2004.
Jayson P. Ahern,
Assistant Commissioner, Office of Field Operations.

[FR Doc. 04-4011 Filed 2-23-04; 8:45 am]

BILLING CODE 4820-02-P